DEPARTMENT OF COMMERCE

National Oceanic and Atmospheric Administration

RIN 0648-XQ24

Endangered and Threatened Species; Recovery Plans

AGENCY: National Marine Fisheries Service (NMFS), National Oceanic and Atmospheric Administration (NOAA), Commerce.

ACTION: Extension of public comment period.

SUMMARY: On July 23, 2009, we, NMFS, announced the release of the Draft Southern California Steelhead Recovery Plan (Plan) for public review and comment. The Plan addresses the Southern California Steelhead (Oncorhynchus mykiss) Distinct Population Segment (DPS), which spawns in watersheds from the Santa Maria River (just north of Point Conception) south to the Tijuana River at the U.S.-Mexico border. NMFS is soliciting review and comment from the public and all interested parties on the Draft Plan. As part of that proposal, we provided a 60-day comment period, ending on September 20, 2009. We have received requests for an extension of the public comment period. In response to these requests, we are extending the comment period for the proposed action an additional 60 days.

DATES: Information and comments on the subject action must be received by November 19, 2009.

ADDRESSES: Please send written comments and materials to Penny Ruvelas, National Marine Fisheries Service, 501 W. Ocean Blvd, Suite 4200, Long Beach, CA 90802. Comments may also be submitted by e-mail to: SteelheadPlan.swr@noaa.gov. Include in the subject line of the e-mail comment the following identifier: Comments on Southern California Steelhead Plan. Comments may be submitted via facsimile (fax) to 562-980-4027.

Persons wishing to review the Plan can obtain an electronic copy (i.e., CD-ROM) from Kimberly Speech by calling 562-980-4020 or by e-mailing a request to kimberly.speech@noaa.gov with the subject line “CD-ROM Request for Southern California Steelhead Recovery Plan.” Electronic copies of the Plan are also available on-line on the NMFS website http://swr.nmfs.noaa.gov/recovery/So_Cal.htm.

FOR FURTHER INFORMATION CONTACT: Mark Capelli, NMFS Southern California Steelhead Recovery Coordinator at 805-963-6478 x14 or Penny Ruvelas, NMFS SWR Protected Resources Division at 562-980-4197.

SUPPLEMENTARY INFORMATION:

Background

On July 23, 2009, we published a Notice of Availability for the Draft Southern California Steelhead Recovery Plan (Plan) for public review and comment (74 FR 36460). The Plan addresses the Southern California Steelhead (Oncorhynchus mykiss) Distinct Population Segment (DPS), which spawns in watersheds from the Santa Maria River (just north of Point Conception) south to the Tijuana River at the U.S.-Mexico border. NMFS is soliciting review and comment from the public and all interested parties on the Draft Plan. As part of that proposal, we provided a 60-day comment period, ending on September 20, 2009. We also held two public meetings on the Plan, one in Carlsbad, CA, on August 25, 2009 and one in Santa Barbara, CA, on September 1, 2009. We have received requests for an extension of the public comment period. In response to these requests, we are extending the comment period for the proposed action an additional 60 days. Information and comments must be received by November 19, 2009.

Authority: 16 U.S.C. 1531 et seq.

Dated: September 4, 2009.
Angela Somma,
Chief, Endangered Species Division, Office of Protected Resources, National Marine Fisheries Service.

[FR Doc. E9-21963 Filed 9-10-09; 8:45 am]

BILLING CODE 3510-22-S